ENVIRONMENTAL PROTECTION AGENCY

[FRL-10983-01-OA]

Public Meeting of the Science Advisory Board

AGENCY: Environmental Protection Agency (EPA).

ACTION: Notice.

SUMMARY: The Environmental Protection Agency (EPA) Science Advisory Board (SAB) Staff Office is announcing a public meeting of the chartered Science Advisory Board. The purpose of the meeting is to discuss recommendations received from the SAB Work Group for Review of Science Supporting EPA Decisions concerning SAB review of EPA planned regulatory actions.

DATES: Public Meeting: The chartered Science Advisory Board will meet on Friday, June 23, 2023, from 12 noon to 5 p.m. Eastern Time.

Comments: See the section titled “Procedures for Providing Public Input” under SUPPLEMENTARY INFORMATION for instructions and deadlines.

ADDRESSES: The meeting will be conducted virtually. Please refer to the SAB website at https://sab.epa.gov for information on how to attend the meeting.

FOR FURTHER INFORMATION CONTACT: Any member of the public who wants further information concerning this notice may contact Dr. Thomas Armitage, Designated Federal Officer (DFO), via telephone (202) 564-2155, or email at armitage.thomas@epa.gov. General information about the SAB, as well as any updates concerning the meeting announced in this notice, can be found on the SAB website at https://sab.epa.gov.

SUPPLEMENTARY INFORMATION:

Background: The SAB was established pursuant to the Environmental Research, Development, and Demonstration Authorization Act (ERDDAA), codified at 42 U.S.C. 4365, to provide independent scientific and technical advice to the EPA Administrator on the scientific and technical basis for agency positions and regulations. The SAB is a Federal Advisory Committee chartered under the Federal Advisory Committee Act (FACA), 5 U.S.C. app. 2. The SAB will comply with the provisions of FACA and all appropriate SAB Staff Office procedural policies. Pursuant to FACA and EPA policy, notice is hereby given that the chartered Science Advisory Board will hold a public meeting to discuss and deliberate on recommendations received from the SAB Work Group for Review of Science Supporting EPA Decisions concerning SAB review of EPA planned regulatory actions.

Under the SAB's authorizing statute, the SAB “may make available to the Administrator, within the time specified by the Administrator, its advice and comments on the adequacy of the scientific and technical basis” of proposed rules. The SAB Work Group for Review of Science Supporting EPA Decisions (SAB SSD Work Group) is charged with identifying EPA planned actions that may warrant SAB review. The SAB will discuss recommendations received from the SAB SSD Work Group.

Availability of Meeting Materials: All meeting materials, including the agenda, will be available on the SAB web page at https://sab.epa.gov.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Members of the public can submit relevant comments pertaining to the committee's charge or meeting materials. Input from the public to the SAB will have the most impact if it provides specific scientific or technical information or analysis for the SAB to consider or if it relates to the clarity or accuracy of the technical information. Members of the public wishing to provide comment should follow the instruction below to submit comments.

Oral Statements: In general, individuals or groups requesting an oral presentation at a meeting conducted virtually will be limited to three minutes. Each person making an oral statement should consider providing written comments as well as their oral statement so that the points presented orally can be expanded upon in writing. Persons interested in providing oral statements should contact the DFO, in writing (preferably via email) at the contact information noted above in the FOR FURTHER INFORMATION CONTACT, by June 19, 2023, to be placed on the list of registered speakers.

Written Statements: Written statements will be accepted throughout the advisory process; however, for timely consideration by SAB members, statements should be submitted to the DFO by June 19, 2023, for consideration at the June 23, 2023, meeting. Written statements should be supplied to the DFO at the contact information above via email. Submitters are requested to provide an unsigned version of each document because the SAB Staff Office does not publish documents with signatures on its websites. Members of the public should be aware that their personal contact information if included in any written comments, may be posted to the SAB website. Copyrighted material will not be posted without the explicit permission of the copyright holder.

Accessibility: For information on access or services for individuals with disabilities, please contact the DFO, at the contact information noted above, preferably at least ten days prior to the meeting, to give the EPA as much time as possible to process your request.

V. Khanna Johnston,
Deputy Director, Science Advisory Board Staff Office.

[FR Doc. 2023-11631 Filed 5-31-23; 8:45 am]

BILLING CODE 6560-50-P